SECURITIES AND EXCHANGE COMMISSION

Sunshine Act Meetings

TIME AND DATE: Notice is hereby given, pursuant to the provisions of the Government in the Sunshine Act, Public Law 94-409, that the Securities and Exchange Commission will hold an Open Meeting on Tuesday, August 20, 2024, at 10 a.m. (ET).

PLACE: The meeting will be webcast on the Commission's website at www.sec.gov.

STATUS: This meeting will begin at 10 a.m. (ET) and will be open to the public via webcast on the Commission's website at www.sec.gov.

MATTERS TO BE CONSIDERED:

1. The Commission will consider whether to approve the Amendments to PCAOB Rule 3502 Governing Contributory Liability, as adopted by the Public Company Accounting Oversight Board.

2. The Commission will consider whether to approve the new auditing standard, AS 1000, General Responsibilities of the Auditor in Conducting an Audit and related amendments, as adopted by the Public Company Accounting Oversight Board.

3. The Commission will consider whether to approve the Amendments Related to Aspects of Designing and Performing Audit Procedures that Involve Technology-Assisted Analysis of Information in Electronic Form, as adopted by the Public Company Accounting Oversight Board.

CONTACT PERSON FOR MORE INFORMATION: For further information; please contact Vanessa A. Countryman from the Office of the Secretary at (202) 551-5400.

(Authority: 5 U.S.C. 552b)

Dated: August 13, 2024.
Vanessa A. Countryman,
Secretary.

[FR Doc. 2024-18463 Filed 8-14-24; 11:15 am]

BILLING CODE 8011-01-P